FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

EZ Logistics Group, Inc., 17890 Castleton Street, Suite 306, City of Industry, CA 91748. Officer: Zhao Gang Zhong, President (Qualifying Individual).

ACT Shipping, Inc., 15204 S. Berando Ave., Suite #7, Garena, CA 90247. Officer: Dan S. Quan, President (Qualifying Individual).

Hisped Trans Service Inc., 750 Arthur Avenue, Elk Grove Village, IL 60007. Officer: Kyo Hyon Kim, President (Qualifying Individual).

Rapido Express Envios, 35 Beacon Blvd., Miami, FL 33135. Officer: Mario M. Morales, President (Qualifying Individual).

Expolanka USA LLC, 175-11, 148th Rd., Ste. 202, Jamaica, NY 11434. Officers: Simon Tung, Member (Qualifying Individual), Chandana J. Rodrigo, CEO/Member.

Non-Vessel Operating Common Carrier and Ocean Freight Forwarder Transportation Intermediary Applicants

Majic Transport, Inc., La Calle S. Del Palmar #P-11,Reparto Flamingo, Bayamon, Puerto Rico. Officers: Antonio Pabon Urrutia, Vice President (Qualifying Individual), Carlos Padial, President.

Dated: July 20, 2007.
Bryant L. VanBrakle,
Secretary.

[FR Doc. E7-14399 Filed 7-24-07; 8:45 am]

BILLING CODE 6730-01-P